DEPARTMENT OF THE INTERIOR

Bureau of Land Management

[UT-942-5420 J951; UTU-78738]

Proposed Disclaimer of Interest; Utah

AGENCY: Bureau of Land Management, Interior.

ACTION: Notice.

SUMMARY: The Bureau of Land Management has received an application for a Disclaimer of Interest for accreted lands along the Virgin River in Washington, County, Utah. This notice provides a public comment period for the Disclaimer of Interest.

DATES: Comments should be received by August 3, 2000.

ADDRESSES: Comments should be sent to the State Director, Utah State Office, P.O. Box 45155, Salt Lake City, Utah 84145-0155.

FOR FURTHER INFORMATION CONTACT: Angela D. Williams, Bureau of Land Management, Utah State Office, 801-539-4107.

SUPPLEMENTARY INFORMATION: The United States of America, through the Bureau of Land Management, of the Department of the Interior, hereby disclaims any interest in the following tracts of land situated in Washington County, State of Utah:

Parcel #1

Beginning at a point North 01°05′07″ West 957.00 feet along the Section Line from the Southeast Corner of Section 32, Township 42 South, Range 15 West, Salt Lake Base and Meridian; said point also being on the South Meander Line of the Virgin River as shown on the Surveyor's General Official Plat dated September 3, 1870; thence along said Meander Line the following two (2) courses: South 89°40′55″ West 1325.10 feet to the East Sixteenth (1/16) Line of said Section 32; thence South 59°40′55″ West 255.22 feet to a point on the arc of a 1477.89-foot radius curve concave to the Northeast, from which the radius point bears North 66°08′45″ East; said point also being on the Easterly Right-of-Way Line of River Road, a 100-foot wide public street; thence along said Right-of-Way Line the following two (2) courses: Northwesterly 138.84 feet along the arc of said curve through a central angle of 5°22′58″; thence North 18°28′17″ West 750.70 feet; thence leaving said Right-of-Way Line South 68°50′50″ East 786.00 feet; thence South 82°54′39″ East 135.38 feet; thence North 77°14′39″ East 87.66 feet; thence North 44°54′44″ East 663.44 feet; thence North 85°30′46″ East 176.24 feet; thence South 63°28′36″ East 491.12 feet; thence South 61°39′26″ East 1268.77 feet to the West Sixteenth (1/16) Line of said Section 33; thence along said Sixteenth Line South 00°53′19″ East 140.28 feet to the said Meander Line; thence along said Meander Line the following two (2) courses: South 85°40′55″ West 985.11 feet; thence North 69°19′05″ West 363.00 feet to the point of beginning.

Continuing 41.49 acres, lying Southerly of the Virgin River and Northerly of original riparian lots 5 and 6, Section 32, Township 42 South, Range 15 West, Salt Lake Base and Meridian.

Parcel #2

Beginning at a point South 89°40′55″ West 1876.79 feet along the Section Line and North 00°00′00″ East 647.88 feet from the Southeast Corner of Section 32, Township 42 South, Range 15 West, Salt Lake Base and Meridian; said point also being on the South Meander Line of the Virgin River as shown on the Surveyor's General Official Plat dated September 3, 1870; said point also being on the arc of an 822.85-foot radius curve concave to the Northeast from which point the radius point bears North 76°35′00″ East; thence Northwesterly 75.61 feet along the arc of said curve through a central angle of 5°15′54″; thence North 08°09′06″ West 866.84 feet; thence North 14°58′06″ West 193.60 feet; thence North 79°21′04″ East 9.32 feet; thence North 58°29′09″ East 14.74 feet; thence North 34°47′30″ East 17.78 feet; thence South 52°04′08″ East 24.12 feet; thence South 25°00′10″ East 31.06 feet; thence South 60°04′38″ East 19.83 feet; thence South 75°46′19″ East 4.15 feet to a point on the Westerly Right-of-Way Line of River Road, a 100.00-foot wide public street; thence along said Right-of-Way line the following two (2) courses: South 18°28′17 East 852.50 feet to the point of curvature of a 1577.89-foot radius curve concave to the Northeast; thence Southeasterly 159.57 feet long the arc of said curve through a central angle of 5°47′39″ to a point from which the radius point bears North 65°44′04″ East; thence leaving said Right-of-Way Line South 59°40′55″ West 2662.26 feet to the point of beginning.

Containing 3.76 acres, lying Southerly of the Virgin River and Northerly of original riparian lot 5, Section 32, Township 42 South, Range 15 West, Salt Lake Base and Meridian.

By this action, the United States of America hereby releases and relinquishes any claim of interest to the above described land.

Further, the United States of America hereby releases and relinquishes any claim of interest to the surface lands, for lands patented out, from their original surveyed and plated location to the center line of the Virgin River. This statement does not address any subsurface interest that may still vested with the United States of America.

The public is hereby notified that comments may be submitted to the State Director at the address shown above withing the comment period identified above. Any adverse comments will be evaluated by the State Director who may modify or vacate this action and issue a final determination. In absence of any action by the State Director, this notice will become the final determination of the Department of the Interior and a disclaimer of interest maybe issued 90 day from the publication of this notice.

Joseph Incardine,
Chief, Branch of Lands and Realty.

[FR Doc. 00-11234 Filed 5-4-00; 8:45 am]

BILLING CODE 4310-DQ-M